DEPARTMENT OF VETERANS AFFAIRS

Advisory Committee on the Readjustment of Veterans; Notice of Meeting

The Department of Veterans Affairs (VA) gives notice under Public Law 92-463 (Federal Advisory Committee Act) that a meeting of the Advisory Committee on the Readjustment of Veterans will be held on September 7-8, 2006, at The American Legion, Washington Office, at 1608 K Street, NW., Washington, DC from 8 a.m. to 4:30 p.m. each day. The meeting will be open to the public.

The purpose of the Committee is to review the post-war readjustment needs of veterans and to evaluate the availability and effectiveness of VA programs to meet these needs.

The agenda for September 7 will review the coordination of services between VA and the Department of Defense as this relates to ensuring a seamless transition for returning war veterans. The topics covered will include deployment-related problems faced by service members and their families, and Battlemind Training as developed by the Walter Reed Army Institute for Research.

On September 8 the Committee will be provided with an update on the current activities of the Readjustment Counseling Service Vet Center program to serve the veterans from Operation Enduring Freedom and Operation Iraqi Freedom. The agenda will also include a review of the partnership between VA and DOD in implementing the Post-Deployment Health Reassessment Program; strategic planning activities, and drafting recommendations for the Committee's next report to Congress.

No time will be allocated at this meeting for receiving oral presentations from the public. However, members of the public may direct written questions or submit prepared statements for review by the Committee in advance to Mr. Charles M. Flora, M.S.W., Designated Federal Officer, Readjustment Counseling Service, Department of Veterans Affairs (15), 810 Vermont Avenue, NW., Washington, DC 20420. Those who plan to attend or have questions concerning the meeting may contact Mr. Flora at (202) 273-8969 or charles.flora@va.gov.

Dated: August 9, 2006.
By Direction of the Secretary.
E. Philip Riggin,
Committee Management Officer.

[FR Doc. 06-6994 Filed 8-17-06; 8:45 am]

BILLING CODE 8320-01-M